DEPARTMENT OF ENERGY

Office of Science; Fusion Energy Sciences Advisory Committee

AGENCY: Department of Energy.

ACTION: Notice of Open Meeting.

SUMMARY: This notice announces a meeting of the Fusion Energy Sciences Advisory Committee. The Federal Advisory Committee Act (Public Law 92-463, 86Stat.770) requires that public notice of these meetings be announced in the Federal Register.

DATES: Thursday, March 1, 2007, 8:30 a.m. to 6 p.m. and Friday, March 2, 2007, 8:30 a.m. to noon.

ADDRESSES: The Marriott Gaithersburg Washingtonian Center, 9751 Washingtonian Boulevard, Gaithersburg, Maryland 20878, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The major purposes of the meeting are for the Fusion Energy Sciences Advisory Committee (FESAC) to (1) hear from DOE about the FY 2008 Budget, (2) complete the charge on the evaluation of the program's progress toward meeting the PART performance measures, and (3) a presentation and discussion of a new charge and how FESAC plans to approach this new charge. The charge will be related to the evolution of the program during the years of ITER construction and operation including what issues need to be dealt with and what general class(es) of facility(ies) may be needed in addition to ITER.

Tentative Agenda

Thursday, March 1, 2007

• Complete the charge on assessing the program's progress toward achieving long-range PART measures.

• Discussion of the new charge.

• Public Comments.

Friday, March 2, 2007

• U.S. Burning Plasma Office: Status Report.

• High Energy Density Physics: What is happening at DOE.

• Fusion Simulation Project Status and Plans.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9 a.m. and 4 p.m., Monday through Friday, except Federal holidays.

Issued at Washington, DC, on February 1, 2007.
Rachel M. Samuel,
Deputy Advisory Committee Management Officer.

[FR Doc. E7-1855 Filed 2-5-07; 8:45 am]

BILLING CODE 6450-01-P